DEPARTMENT OF COMMERCE

National Oceanic and Atmospheric Administration

[Docket No. 020314059-2059-01; I.D. 022602B]

RIN 0648-ZB16

Financial Assistance for Environmental Education Projects in the Chesapeake Bay Watershed

AGENCY: National Marine Fisheries Service (NMFS), National Oceanic and Atmospheric Administration (NOAA), Department of Commerce.

ACTION: Notice of availability of funds.

SUMMARY: The purpose of this document is to invite the public to submit proposals for available funding to implement environmental education projects in the following two priority areas: “Meaningful” Chesapeake Bay or Stream Outdoor Experience and Professional Development in the Area of Environmental Education for Teachers Within the Chesapeake Bay Watershed. Funds are available to K-through-12 public and independent schools and school systems, institutions of higher education, community-based and nonprofit organizations, state or local government agencies, interstate agencies, and Indian tribal governments. This document describes the conditions under which project proposals will be accepted and criteria under which proposals will be evaluated for funding consideration. Potential recipients may submit proposals for both priority areas, but, for each, they must write a separate proposal. Selected recipients will enter into either a cooperative agreement or a grant.

DATES: Applications for funding under this program must be received by 5 p.m. eastern daylight-saving time on May 23, 2002. Note: for applications received after the postmark date, see SUPPLEMENTARY INFORMATION, Section IV, A.

ADDRESSES: You can obtain an application package from and send completed applications to Seaberry J. Nachbar, NOAA Chesapeake Bay Office, 410 Severn Avenue, Suite 107A, Annapolis, MD 21403. You can also obtain the application package from the NOAA Chesapeake Bay Office Home Page, Education link (http://noaa.chesapeakebay.net). No application will be accepted by facsimile machine or electronic mail submission.

FOR FURTHER INFORMATION CONTACT: Seaberry J. Nachbar, Education Coordinator, NOAA Chesapeake Bay Office, telephone: (410) 267-5664, or e-mail: seaberry.nachbar@noaa.gov.

SUPPLEMENTARY INFORMATION:

I. Introduction

A. Authority

The Fish and Wildlife Act of 1956, as amended, at 16 U.S.C. 753a, authorizes the Secretary of Commerce (Secretary), to develop adequate, coordinated, cooperative research and training programs for fish and wildlife resources, to continue to enter into cooperative agreements with colleges and universities, with game and fish departments of several states, and with nonprofit organizations relating to cooperative research units. The Secretary of Commerce, acting through the Under Secretary of Commerce for Oceans and Atmosphere, is authorized by 15 U.S.C. 1540 to enter into cooperative agreements and other financial agreements with any nonprofit organization to aid and promote scientific and educational activities to foster public understanding of the National Oceanic and Atmospheric Administration or its programs. The Departments of Commerce (DOC), Justice, State, the Judiciary, and Related Agencies Appropriations Act of 2002 make funds available to the Secretary.

B. Catalog of Federal Assistance (CFDA)

The projects to be funded are in support of the Chesapeake Bay Studies (CFDA 11.457), under the Chesapeake Bay Watershed Education and Training Program.

C. Program Description

As an agency that is dedicated to the conservation and wise management of the Nation's coastal and marine resources, NOAA recognizes that a commitment to environmental stewardship must include a strong educational component. Consistent with this commitment, NOAA has initiated an environmental education program through its Chesapeake Bay Office, the Bay Watershed Education and Training Program (B-WET Program). The B-WET Program objectives are to support and encourage environment based education and first-hand experiences, among the best ways to promote individual stewardship of the Bay and its tributaries.

Funded projects will assist in meeting the Stewardship and Community Engagement goals of the Chesapeake 2000 agreement (http://www.chesapeakebay.net/pubs/subcommittee/cesc/c2k.pdf). Projects will support organizations that provide students “meaningful” Chesapeake Bay or stream outdoor experiences and teachers professional development opportunities in the area of environmental education.

II. Priority Areas and Evaluation Criteria

Proposals should address one of the two priority areas: (1) “Meaningful” Chesapeake Bay or Stream Outdoor Experience; or, (2) Professional Development in the Area of Environmental Education for Teachers Within the Chesapeake Bay Watershed. Potential recipients may submit proposals for both priority areas, but they must write separate proposals for each one.

A. “Meaningful” Chesapeake Bay or Stream Outdoor Experience

The NOAA Chesapeake Bay Office (NCBO) seeks proposals for projects that provide opportunities for students (K through 12) to participate in a “meaningful” Chesapeake Bay or stream outdoor experience. The Chesapeake Bay, with its tributaries, provides an excellent opportunity for environmental education. In many cases, its tidal and non-tidal waters and the surrounding landscape provide "hands-on" laboratories where students can see, touch, and learn about the Chesapeake Bay watershed and the greater environment. In other cases, the Bay watershed can be brought alive to the classroom through a strong complement of outdoor and classroom experiences. The Chesapeake Bay and its tributaries should be considered a living resource that provides a genuine, locally relevant source of environmental knowledge that can be used to help advance student learning skills and problem-solving abilities across the entire school curriculum.

Total anticipated funding is about $500,000. Of the amount available for this priority area, about $400,000 will be awarded to larger organizations that provide environmental education programs and up to $100,000 to smaller, community-based organizations that work at a local level to provide environmental education programs.

Proposals will be evaluated on the following nine criteria. Reviewers will assign scores ranging from 0 to 100 points.

1. Experiences follow the scope and sequence of a “meaningful” Chesapeake Bay or stream outdoor experience: This part of the program comprises a series of concepts and perceptions appropriate for K- through 12-grade students. See also the Stewardship and Meaningful Watershed Educational Experiences document (http://www.chesapeakebay.net/pubs/subcommittee/cesc/c2k.pdf). (10 points)

a. From K to 5. Experiences should be neighborhood-based and reinforce such basic concepts as maps and models, habitat principles, and the concept of the water cycle and watersheds.

b. From 6 to 8. Experiences should focus on team and class projects and investigations, conducted in or near water. Experiences should reinforce science, mathematics, and technology skills developed in middle school.

c. From 9 to 12. Experiences should be first-hand knowledge in or near water and should relate to the earth and biological sciences, concepts developed in civics and government, and attitudes reinforcing responsible citizenship.

2. “Meaningful” Chesapeake Bay or stream outdoor experiences are hands-on oriented: Experiences should involve student participation and engage the student throughout the entire event. Experiences should not be limited to tours, gallery visits, simulations, demonstrations, or “nature” walks but should encourage the student to assist, share, communicate, and connect directly with the outdoors. Experiences do not have to be water-based activities directly on the Bay, tidal rivers, streams, creeks, ponds, wetlands, or other bodies of water. As long as there is an intentional connection to water quality, watershed, and the larger ecological system, outdoor experiences may include terrestrial activities (e.g., erosion control, buffer creation, groundwater protection, and pollution prevention). (10 points)

3. “Meaningful” Chesapeake Bay or stream outdoor experiences are richly structured: Experiences should consist of three general parts, not necessarily occurring in this order- a preparation phase; an outdoor phase; and an analysis, reporting phase. Projects should provide teachers with the support, materials, resources, and information needed to conduct these three parts. The preparation phase should focus on a question, problem, or issue and involve students in discussions about it. The action phase should include one or more outdoor experiences sufficient to conduct the project, make the observations, or collect the data required. The reflection phase should refocus on the question, problem, or issue; analyze the conclusions reached; evaluate the results; and assess the activity and the learning. (10 points)

4. “Meaningful” Chesapeake Bay or stream outdoor experiences reflect an integrated approach to learning: Experiences should involve the use of materials, resources, and instruments to address multiple topics, such as maritime heritage, science, history, economics, math, and the cultural significance of our natural resources. Experiences make appropriate connections between subject areas and reflect an integrated approach to learning. (10 points)

5. “Meaningful” Chesapeake Bay or stream outdoor experiences are investigative or project-oriented: Experiences should include activities where questions, problems, and issues are investigated through data collection, observation, and hands-on activities. Experiences should stimulate observation, motivate critical thinking, develop problem-solving skills, and instill confidence in students. (10 points)

6. “Meaningful” Chesapeake Bay or stream outdoor experiences are an integral part of the instructional program: Experiences should not be considered ancillary, peripheral, or enriching only, but should be able to be clearly integrated into part of a concurrent classroom curriculum. The nature of these experiences should be based on State (VA, MD, PA, DE, WV, NY) and/or District (DC) academic learning standards. (10 points)

7. Projects are new or significantly enhanced: Proposals should consist of a project that is new to an organization’s environmental education program or includes additions that significantly enhance an existing project. For example, projects could include different participants, focus on a new audience, concentrate on a different geographic location, or employ new techniques, methods, or ideas. (10 points)

8. Projects demonstrate partnerships: Project proposals should include partners involving any of the eligible applicants. Projects are encouraged to include environmental education organizations that do not have presently a well-established environmental education program. All partners should be actively involved in the project, not just supply equipment or curricula. (15 points)

9. Justification and allocation of the proposed budget: Proposals will be evaluated on the reasonableness of the proposed budget. (15 points)

B. Professional Development in the Area of Environmental Education for Teachers within the Chesapeake Bay Watershed

The NCBO seeks proposals for projects that provide K-through-12 teachers within the Chesapeake Bay watershed opportunities for professional development in the area of environmental education. As the purveyors of education, teachers can ultimately make meaningful environmental education experiences for students by weaving together classroom and field activities within the context of their curriculum and of current critical issues that impact the watershed. Systematic, long-term professional development opportunities will reinforce a teacher’s ability to teach, inspire, and lead young people toward thoughtful stewardship of our natural resources.

Total anticipated funding is about $350,000. Proposals will be evaluated on the following eight criteria. Reviewers will assign scores ranging from 0 to 100 points.

1. Projects follow the teaching of a “meaningful” Chesapeake Bay or stream outdoor experience and encourage the teacher to implement a “meaningful” experience project in his/her classroom: Projects should be modeled to reflect the definition of a “meaningful” Chesapeake Bay or stream outdoor experience (http://www.chesapeakebay.net/pubs/subcommittee/cesc/c2k.pdf). Projects should provide teachers with lesson plans, materials, or resources needed for carrying out a “meaningful” Chesapeake Bay or stream outdoor experience and encourage them to implement an experience in their classroom or community. (15 points)

2. Projects are aligned with academic learning standards: Projects should be based on State (VA, MD, PA, DE, WV, NY) and/or District (DC) academic learning standards. (15 points)

3. Projects are scientifically and educationally sound: Projects should provide environmental education training that is scientifically and educationally sound and represent innovative techniques to address environmental issues. (10 points)

4. Projects promote continued teacher involvement: Projects should encourage teacher participation throughout the entire school year. For example, projects could provide courses or workshops, or promote web-based interaction during the school year. (10 points)

5. Projects involve external sharing and communication:Projects should promote peer-to-peer sharing and emphasize the need for external sharing and communication. Projects should include a mechanism that encourages teachers to share their experiences with other teachers and with the environmental education community. (10 points)

6. Projects are new or significantly enhanced: Proposals should consist of a project that is new to an organization’s environmental education program or that includes additions that significantly enhance an existing project. For example, projects could include different participants, focus on a new audience, concentrate on a different geographic location, or employ new techniques, methods, or ideas. (10 points)

7. Projects demonstrate partnerships: Project proposals should include partners involving any of the eligible applicants. Projects are encouraged to include environmental education organizations that presently do not have a well-established environmental education program. All partners should be actively involved in the project and not just in the supply of equipment or curricula. (15 points)

8. Justification and allocation of the proposed budget: Proposals will be evaluated on the reasonableness of the proposed budget. (15 points)

III. Funding

A. Funding Availability

This solicitation announces that funding of up to $850,000 will be available for environmental education projects in the Chesapeake Bay watershed for FY 2002. About $500,000 will be for proposals that provide opportunities for students (K through 12) to participate in a “Meaningful” Chesapeake Bay or Stream Outdoor Experience. Of this amount, about $400,000 will be awarded to larger organizations that provide environmental education programs and up to $100,000 to smaller, community-based organizations that work at a local level to provide environmental education programs. About $350,000 will be for proposals that provide opportunities for Professional Development in the area of Environmental Education for Teachers within the Chesapeake Bay Watershed.

There is no guarantee that sufficient funds will be available to make awards for all proposals. The exact amount of funds that may be awarded will be determined in pre-award negotiations between the applicant and the NOAA representatives. Publication of this document does not obligate NOAA to award any specific project or all or any part of any available funds.

Applicants should refer to and acknowledge the Federal Register notice, Department of Commerce Pre-Award Notification Requirements for Grants and Cooperative Agreements, published October 1, 2001 (66 FR 49917). The pre-award notice provisions previously printed apply to this notice of availability of funds.

B. Award Limits

The NCBO anticipates that typical project awards for “Meaningful” Chesapeake Bay or Stream Outdoor Experience will range from $50,000 to $200,000 for larger organizations, and $5,000 to $30,000 for smaller, community-based organizations. The NCBO anticipates that typical project awards for Professional Development in the area of Environmental Education for Teachers within the Chesapeake Bay Watershed will range from $20,000 to $70,000.

C. Proposals that Demonstrate Partnerships

Proposals that demonstrate partnerships may be considered for funds greater than the specified ranges.

D. Duration and Terms of Funding

Proposals may be submitted as multi-year projects. Proposals for the “Meaningful” Chesapeake Bay or Stream Outdoor Experience may be submitted for up to 2 years. Proposals for the Professional Development in the area of Environmental Education for Teachers within the Chesapeake Bay Watershed may be submitted for up to 3 years. However, funds will be made available for only a 12-month award period, and any continuation of the award period will be subject to an approved scope of work, technical evaluation, satisfactory progress, and available funding to continue the award. No assurance for a funding continuation exists; funding will be at the complete discretion of NOAA. Multi-year proposals must include a full description of the activities and budget for the first year, and should include a summary description of the proposed work for each subsequent year and a estimated budget by line item (without the supporting budget detail pages) for review and analysis. The Program Officer and Grants Officer will conduct a cursory review of the proposed out year activities and if selected for funding the applicant will be required to submit a full statement of work and detailed budget page(s) ninety days prior to the anniversary date of the award. Project dates should be scheduled to begin no later than October 1, 2002.

E. Funding Instrument

Whether the funding instrument is a grant or a cooperative agreement will be determined by the amount of NCBO’s involvement in the project. A cooperative agreement will be used if NCBO is involved substantially in:

1. Monitoring the progress of each funded project; and

2. Working with the recipients to prepare annual reports summarizing current accomplishments of the project.

F. Cost-Sharing Requirements

The NCBO strongly encourages applicants applying for either priority area to leverage as much investment as possible. Federal funds may not be considered matching funds. The nature of the contribution (cash versus in-kind) and the amount of matching funds will be taken into consideration in the final selection process.

IV. How to Apply

A. Eligible Applicants

Eligible applicants for both priority areas (i.e., “Meaningful” Chesapeake Bay or Stream Outdoor Experience and Professional Development in the Area of Environmental Education for Teachers Within the Chesapeake Bay Watershed) are K-through-12 public and independent schools and school systems, institutions of higher education, community-based and nonprofit organizations, state or local government agencies, interstate agencies, and Indian tribal governments in the Chesapeake Bay watershed.

The Department of Commerce/ National Oceanic and Atmospheric Administration (DOC/NOAA) is strongly committed to broadening the participation of historically black colleges and universities, Hispanic serving institutions, tribal colleges and universities, and institutions that work in undeserved areas. The NCBO encourages proposals involving any of the above institutions.

Applications submitted via the U.S. Postal Service must have an official postmark; private metered postmarks are not acceptable. Applications that are received after the closing date will be accepted for review if the applicant can document that the application was provided to the delivery service on or prior to the specified postmark cut-off date. In any event, applications received later than five business days following the closing date will not be accepted.

B. Format

Applications for project funding must be complete and must follow the format described in this notice.

Applications may be submitted for both priority areas (i.e., “Meaningful” Chesapeake Bay or Stream Outdoor Experience or Professional Development in the Area of Environmental Education for Teachers Within the Chesapeake Bay Watershed), but must be submitted separately. Applicants should not assume prior knowledge on the part of the NCBO as to the relative merits of the project described in the application. Applicants are required to submit one signed original and two copies of the application proposal. Application format must be in 12-point font, double-spaced, unbound, and one-sided. Applications must be submitted in the following format:

1. Cover sheet: An applicant must use Office of Management and Budget (OMB) Standard Form 424 (revised 7/97) as the cover sheet for each project. Applicants may obtain these forms from the NOAA Chesapeake Bay Office Web site (see ADDRESSES) or from the NOAA Grants Web site: http://www.rdc.noaa.gov/grants/index.html.

2. Project summary: It is recommended that each proposal contain a summary of no more than one page that provides the following:

a. Organization title.

b. Address and telephone number of applicant.

c. Priority area for which you are applying (i.e., (1)“Meaningful” Chesapeake Bay or Stream Outdoor Experience or (2)Professional Development in the Area of Environmental Education for Teachers in the Chesapeake Bay Watershed).

d. Project title.

e. Project duration (beginning to end dates, starting on the first of the month and ending on the last day of the month).

f. Principal Investigator(s) (PI).

g. Project objectives.

h. Summary of work to be performed.

i. Total Federal funds requested.

j. Cost-sharing to be provided from non-Federal sources, if any. Specify whether contributions are project-related cash or in-kind.

k. Total project cost.

3. Project description: Describe precisely what your project will achieve why, how, who, and where. The project description must not exceed 15 pages in length. Visuals, materials, graphs, maps, and photographs are not included in the 15-page limitation.

a. Why: Explain the purpose of your project and which priority area your project addresses (i.e., (1)“Meaningful” Chesapeake Bay or Stream Outdoor Experience or (2) Professional Development in the Area of Environmental Education for Teachers Within the Chesapeake Bay Watershed). Explain specifically how your project addresses each of the evaluation criteria listed in that priority area (i.e., each of the nine criteria for the “Meaningful” Chesapeake Bay or Stream Outdoor Experience priority area or each of the eight criteria for the Professional Development in the area of Environmental Education for Teachers within the Chesapeake Bay Watershed priority area).

b. How: Outline a plan of action pertaining to the scope and detail of how the proposed work will be accomplished. Explain your strategy, objectives, activities, delivery methods, and accomplishments to establish for reviewers that you have realistic goals and objectives and that you will use effective methods to achieve them. When accomplishments cannot be quantified, list the activities in chronological order to show the schedule of accomplishments and target completion dates.

Project Objectives: Objectives should be simple and understandable; as specific and quantitative as possible; clear as to the “what and when,” but should avoid the “how and why.” Project should be accomplishment oriented and identify specific performance measures.

c. Who: List each organization, cooperator, or other key individuals who will work on the project, along with a short description of the nature of their effort or contribution. Identify the target audience and demonstrate an understanding of the needs of that audience.

d. Where: Give a precise location of the project and area to be served.

4. Need for government financial assistance: Demonstrate the need for assistance. Explain why other funding sources cannot fund all the proposed work.

5. Benefits or results expected: Identify and document the results or benefits to be derived from the proposed activities.

6. Project evaluation: Explain how you will ensure that you are meeting the goals and objectives of your project. Evaluation plans may be quantitative and/or qualitative and may include, for example, evaluation tools, observation, or outside consultation. The applicant will be required to provide an evaluation of project accomplishments and progress toward the project objectives and performance measures and to report on specific information, as determined by the NCBO, in the final report.

7. Total project costs: Total project costs are the amount of funds required to accomplish what is proposed in the Project Description and include contributions and donations. A standard budget form (SF-424A) is available from the NOAA Chesapeake Bay Office Web site (see ADDRESSES) or from the NOAA Grants Web site (http://www.rdc.noaa.gov/grants/index.html). Explain the calculations and provide a narrative to support each budget category. The budget detail and narrative submitted with the application should match the dollar amounts on all required forms. Additional cost detail may be required prior to a final analysis of overall cost allowability, allocability, and reasonableness.

V. Review Process

A. Initial Evaluation of the Applications

NOAA will review all applications to assure that they meet all the requirements of this announcement, including eligibility and relevance to the Bay and Watershed Education and Training Program (B-WET Program).

B. Technical Review

For applications meeting the requirements of this solicitation, eligible proposals will undergo an external technical review. This review will normally involve individuals in the field of environmental education from both NOAA and non-NOAA organizations. Proposals will be scored based on the evaluation criteria as defined in Section II (A) and II (B). Reviewers will be asked to score and comment on each proposal.

C. Review Panel

The NCBO will convene a review panel consisting of at least three experts in the field of environmental education. The review panel will collectively discuss all review comments as a panel, incorporating the evaluation provided by the technical reviewers. The reviewers will then take into account the following: (a) diversity of geographic location, (b) diversity of applicants, and (c) proposed budget. Each review panel member will then numerically rank the submitted applications individually on a scale from 1 (poor) to 5 (excellent).

D. Funding Decision

After applications have been evaluated and ranked numerically for funding by the review panel members, the Chief of the NCBO, in consultation with Program staff, will determine which projects will be recommended for funding based upon the technical evaluations and the panel review scores. However, in making the final selections, the Chief of the NCBO may also consider costs, including matching leverage, geographical distribution, and duplication with other projects. Accordingly, numerical ranking is not the sole factor in deciding which proposals will be selected for funding. The Chief of the NCBO will prepare a written justification for any recommendations for funding that fall outside the ranking order, or any cost adjustments. The Chief of the NCBO or his designee reserves the right to conduct a site visit to applicant organizations in order to help his making the final selection. The exact amount of funds awarded to each project will be determined in pre-award negotiations among the applicant, the Grants Office, and the NCBO staff. Potential grantees should not initiate projects in expectation of Federal funding until an award document signed by an authorized NOAA official has been received.

Unsuccessful applications will be kept on file in the Program office for a period of at least 12 months, then destroyed.

VI. Administrative Requirements

A. Pre-Award Notification Requirements

The requirements for grants and cooperative agreements contained in the Federal Register notice published October 1, 2001 (66 FR 49917), are applicable to this solicitation. However, please note that the Department of Commerce will not implement the requirements of Executive Order 13202 (66 FR 49921)under the Office of Management and Budget, in light of a court finding that the Executive Order was not legally authorized. See Building and Construction Trades Department v. Allbaugh, 172 F. Supp. 2d 138 (D.D.C. 2001). This decision is currently on appeal. When the case has been finally resolved, the Department will provide further information on implementation of Executive Order 13202.

B. Indirect Cost Rates

The budget may include an amount for indirect costs if the applicant has an established indirect cost rate with the Federal government. Regardless of any approved indirect cost rate applicable to the award, the maximum dollar amount of allocable indirect costs for which the Department of Commerce will reimburse the recipient shall be the lesser of the line item amount for the Federal share of indirect costs contained in the approved budget of the award, or the Federal share of the total allocable indirect costs of the award based on the indirect cost rate approved by an oversight or cognizant Federal agency and current at the time the cost was incurred, provided the rate is approved on or before the award end date. However, the Federal share of the indirect costs may not exceed 25 percent of the total proposed direct costs for this Program. Applicants with indirect costs above 25 percent may use the amount above the 25 percent level as cost sharing. If the applicant does not have a current negotiated rate and plans to seek reimbursement for indirect costs, documentation necessary to establish a rate must be submitted within 90 days of receiving an award.

C. Allowable Costs

Funds awarded cannot necessarily pay for all the costs that the recipient might incur in the course of carrying out the project. Allowable costs are determined by reference to the OMB Circulars A-122, “Cost Principles for Nonprofit Organizations”; A-21, “Cost Principles for Education Institutions”; and A-87, “Cost Principles for State, Local and Indian Tribal Governments.” Generally, costs that are allowable include salaries, equipment, supplies, and training, as long as these are “necessary and reasonable.”

Classification

This action has been determined to be “not significant” for purposes of Executive Order 12866. Applications under this program are subject to Executive Order 12372, “Intergovernmental Review of Federal Programs.”

Under section 553 (a)(2) of the Administrative Procedure Act, prior notice and an opportunity for public comment are not required for this notice concerning grants, benefits, and contracts. Therefore, a regulatory flexibility analysis is not required for the purposes of the Regulatory Flexibility Act.

This notice contains collection-of-information requirements subject to the Paperwork Reduction Act. The use of Standard Forms 424 and 424A has been approved by OMB under the respective control numbers 0348-0043 and 0348-0044. Notwithstanding any other provision of the law, no person is required to respond to, nor shall any person be subject to a penalty for failure to comply with a collection of information subject to the requirements of the Paperwork Reduction Act unless that collection displays a currently valid OMB control number.

Dated: April 1, 2002.
Rebecca Lent,
Deputy Assistant Administrator for Regulatory Programs for Fisheries, National Marine Fisheries Service.

[FR Doc. 02-8433 Filed 4-5-02; 8:45 am]

BILLING CODE 3510-22-S